DEPARTMENT OF THE INTERIOR

Office of the Secretary

Tribal Consultation on Implementation of Indian Land Consolidation Program Under Cobell Settlement

AGENCY: Office of the Secretary, Interior.

ACTION: Notice of Tribal consultation meeting.

SUMMARY: The Office of the Secretary is announcing that it will conduct a series of consultation meetings with Indian Tribes to obtain oral and written comments concerning the implementation of the Indian Land Consolidation Program (ILCP) under the terms of the Cobell Settlement. The first Regional consultation meeting will take place in July in Billings, Montana for the Rocky Mountain and Great Plains Regions. There will be five additional consultations in other Regions. See the SUPPLEMENTARY INFORMATION section of this notice for details.

DATES: The first Regional Tribal consultation meeting will take place on Friday, July 15, 2011, in Billings, Montana. Comments must be received by September 16, 2011.

ADDRESSES: Michele F. Singer, Director, Office of Regulatory Affairs and Collaborative Action, Office of the Assistant Secretary—Indian Affairs, 1001 Indian School Road, NW., Suite 312, Albuquerque, NM 87104.

FOR FURTHER INFORMATION CONTACT: Michele F. Singer, telephone (505) 563-3805; fax (505) 563-3811.

SUPPLEMENTARY INFORMATION:

I. Background

The Bureau of Indian Affairs' ILCP purchases fractionated interests of individually owned trust or restricted fee lands and transfers those consolidated interests into Tribal ownership pursuant to the Indian Land Consolidation Act, 25 U.S.C. 2201 et seq. The Indian Claims Resolution Act of 2010, Public Law 111-291, makes available $1.9 billion, the majority of which will be used by the Secretary to operate the ILCP with the purpose of addressing the problem of fractionation. The Act requires consultation with Indian Tribes to identify fractional interests within the respective jurisdictions of the Indian Tribes that the Department may want to consider purchasing.

Information and statistics regarding the issue of land fractionation will be distributed to the Federally-recognized Indian Tribes prior to the consultations. The information will also be made available to attendees on the day of each consultation. The Cobell Settlement must be approved by the Federal District Court, and a fairness hearing before the Court is scheduled for June 20, 2011, in Washington, DC.

II. Meeting Details

The Office of the Secretary will hold the first of a series of Tribal consultation meetings on the following schedule:

Date | Time | Location
Friday, July 15, 2011 | 9 a.m.-4 p.m. | Holiday Inn Grand Montana Hotel & Convention Center, 5500 Midland Road, Billings, Montana 59101, (406) 248-7701 http://www.billingsholidayinn.com.

We will announce additional Tribal consultation meetings by future publication in the Federal Register. Written comments will be accepted through September 16, 2011, and may be sent to the official listed in the ADDRESSES section above.

Dated: June 9, 2011.
David J. Hayes,
Deputy Secretary of the Interior.

[FR Doc. 2011-14923 Filed 6-13-11; 11:15 am]

BILLING CODE 4310-W7-P